COMMITTEE FOR PURCHASE FROM PEOPLE WHO ARE BLIND OR SEVERELY DISABLED

Procurement List; Additions

AGENCY: Committee for Purchase from People Who Are Blind or Severely Disabled.

ACTION: Additions to procurement list.

SUMMARY: This action adds to the Procurement List products and services to be furnished by nonprofit agencies employing persons who are blind or have other severe disabilities.

EFFECTIVE DATE: October 5, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: On June 27, July 3, and July 11, 2003, the Committee for Purchase From People Who Are Blind or Severely Disabled published notice (68 FR 38288, 39894, and 41297/41298) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Belt, General Officers, Leather, Black

8440-00-205-2509—Size 44

8440-00-205-2510—Size 28

8440-00-205-2511—Size 29

8440-00-205-2512—Size 30

8440-00-205-2513—Size 31

8440-00-205-2514—Size 32

8440-00-205-2515—Size 33

8440-00-205-2516—Size 34

8440-00-205-2517—Size 35

8440-00-205-2518—Size 36

8440-00-205-2519—Size 37

8440-00-205-2520—Size 38

8440-00-205-2521—Size 39

8440-00-205-2522—Size 40

8440-00-205-2523—Size 41

8440-00-205-2524—Size 42

8440-00-205-2525—Size 43

NPA: Stone Belt ARC, Inc., Bloomington, Indiana.

Contract Activity: Defense Supply Center Philadelphia, Philadelphia, Pennsylvania.

Product/NSN: Folder, Classification, Pressboard

7530-00-NIB-0672 (Legal Size—1 Divider/4 Part—Light Blue)

7530-00-NIB-0673 (Legal Size—1 Divider/4 Part—Red)

7530-00-NIB-0674 (Legal Size—1 Divider/4 Part—Dark Blue)

7530-00-NIB-0675 (Legal Size—1 Divider/4 Part—Green)

7530-00-NIB-0676 (Legal Size—1 Divider/4 Part—Yellow)

7530-00-NIB-0679 (Letter Size—2 Divider/6 Part—Gray/Green)

NPA: Georgia Industries for the Blind, Bainbridge, Georgia.

Contract Activity: Office Supplies & Paper Products Acquisition Center, New York, New York.

Services

Service Type/Location: Grounds Maintenance/Vegetation Control

Housing and Station Areas, Fallon Naval Air Station, Fallon, Nevada

NPA: High Sierra Industries, Inc., Reno, Nevada

Contract Activity: Engineering Field Activity NW, Fallon Field Office, Fallon, Nevada

Service Type/Location: Janitorial/Custodial

Basewide, Fort McCoy, Wisconsin

NPA: Challenge Unlimited, Inc., Alton, Illinois

Contract Activity: Department of the Army, Fort McCoy, Wisconsin

This action does not affect current contracts awarded prior to the effective date of this addition or options that may be exercised under those contracts.

Sheryl D. Kennerly,
Director, Information Management.

[FR Doc. 03-22675 Filed 9-4-03; 8:45 am]

BILLING CODE 6353-01-P